DEPARTMENT OF ENERGY

Western Area Power Administration

Pick-Sloan Missouri Basin Program—Eastern Division—Order Confirming and Approving an Extension of the Transmission Service Rate Schedules—Rate Order No. WAPA-100

AGENCY: Western Area Power Administration, DOE.

ACTION: Notice of rate order.

SUMMARY: This action is to extend the existing Pick-Sloan Missouri Basin Program—Eastern Division (P-SMBP-ED) Transmission Service Rate Schedules (UGP-AS1, UGP-AS2, UGP-AS3, UGP-AS4, UGP-AS5, UGP-AS6, UGP-FTP1, UGP-NFPT1, and UGP-NT1 of Rate Order No. WAPA-79, through September 30, 2005. The existing Transmission Service Rate Schedules will expire on July 31, 2003. These Transmission Service Schedules contain formulary rates that are recalculated from yearly updated financial and load data. Rate Order No. WAPA-79 is extended under Rate Order No. WAPA-100.

FOR FURTHER INFORMATION CONTACT: Mr. Robert F. Riehl, Power Marketing Manager, Upper Great Plains Customer Service Region, Western Area Power Administration, P.O. Box 35800, Billings, MT 59107-5800, (406) 247-7388, or e-mail riehl@wapa.gov.

SUPPLEMENTARY INFORMATION: By Delegation Order No. 00-037.00 effective December 6, 2001, the Secretary of Energy delegated (1) The authority to develop power and transmission rates on a non-exclusive basis to Western's Administrator; (2) the authority to confirm, approve, and place such rates into effect on an interim basis to the Deputy Secretary; and (3) the authority to confirm, approve, and place into effect on a final basis, to remand, or to disapprove such rates to the Federal Energy Regulatory Commission (FERC).

Pursuant to Delegation Order No. 0204-108 and existing Department of Energy procedures for public participation in rate adjustments at 10 CFR part 903, Western's P-SMBP-ED Transmission Service Rate Schedules were submitted to FERC for confirmation and approval on August 3, 1998. On November 25, 1998, in Docket No. EF98-5031-000 at 85 FERC ¶ 61,273, the FERC issued an order confirming, approving, and placing into effect on a final basis the current Transmission Service Rate Schedules for the P-SMBP-ED. The FERC issued an order denying rehearing and rejecting an untimely request for rehearing on the Transmission Service Rate Schedules on April 12, 2002, in Docket No. EF98-5031-001 at 99 FERC ¶ 61,055. The Transmission Service Rate Schedules, Rate Order No. WAPA-79, were approved for 5 years beginning August 1, 1998, and ending July 31, 2003.

Western is currently evaluating several options for joining a FERC-approved Regional Transmission Organization. That decision could redefine our current rate provisions. Therefore, Western believes it is premature to proceed with a formal rate process at this time. Extending the existing Transmission Service Rate Schedules UGP-AS1, UGP-AS2, UGP-AS3, UGP-AS4, UGP-AS5, UGP-AS6, UGP-FTP1, UGP-NFPT1, and UGP-NT1 to September 30, 2005, should provide enough time to complete our evaluation process. Western proposes to extend the current rate schedules pursuant to 10 CFR part 903.23. Upon its approval, Rate Order No. WAPA-79 will be extended under Rate Order No. WAPA-100.

Western's existing formulary Transmission Service Rate Schedules, which are recalculated annually, would sufficiently recover project expenses (including interest) and capital requirements through September 30, 2005.

Consistent with 10 CFR 903.23(a), Western did not have a consultation and comment period. The notice of an extension of the Transmission Service Rate Schedules was published in the Federal Register on March 4, 2003.

Following review of Western's proposal within the Department of Energy, I approved Rate Order No. WAPA-100, which extends the existing Transmission Service Rate Schedules UGP-AS1, UGP-AS2, UGP-AS3, UGP-AS4, UGP-AS5, UGP-AS6, UGP-FTP1, UGP-NFPT1, and UGP-NT1 on an interim basis through September 30, 2005. Rate Order No. WAPA-100 will be submitted to FERC for confirmation and approval on a final basis.

Dated: June 4, 2003.
Kyle E. McSlarrow,
Deputy Secretary.

In the matter of: Western Area Power Administration Rate Extension for Pick-Sloan Missouri Basin Program-Eastern Division Transmission Service Rate Schedules

This rate extension was established following section 302(a) of the Department of Energy (DOE) Organization Act, 42 U.S.C. 7152(a), (Act). This Act transferred to and vested in the Secretary of Energy (Secretary) the power marketing functions of the Secretary of the Department of the Interior and the Bureau of Reclamation under the Reclamation Act of 1902, (ch. 1093, 32 Stat. 388), as amended and supplemented by subsequent enactments, particularly seciton 9(c) and other acts that specifically apply to the project involved.

By Delegation Order No. 00-037.00 effective December 6, 2001, the Secretary of Energy delegated (1) the authority to develop long-term power and transmission rates on a non-exclusive basis to the Administrator of the Western Area Power Administration (Western); (2) the authority to confirm, approve, and place such rates into effect on an interim basis to the Deputy Secretary; and (3) the authority to confirm, approve, and place into effect on a final basis, to remand, or to disapprove such rates to the Federal Energy Regulatory Commission (FERC). This rate extension is issued following the Delegation Order and the DOE rate extension procedures at 10 CFR part 903.

Background

On November 25, 1998, in Docket No. EF98-5031-000 at 85 FERC ¶ 61,273, the FERC issued an order confirming, approving, and placing into effect on a final basis the Transmission Service Rate Schedules UGP-AS1, UGP-AS2, UGP-AS3, UGP-AS4, UGP-AS5, UGP-AS6, UGP-FTP1, UGP-NFPT, and UGP-NT1 for the Pick-Sloan Missouri Basin Program—Eastern Division (P-SMBP-ED). The Transmission Service Rate Schedules, Rate order No. WAPA-79, were approved for 5 years beginning August 1, 1998, through July 31, 2003. The FERC issued an order denying rehearing and rejecting an untimely request for rehearing on the Transmission Service Rate Schedules on April 12, 2002, in Docket No. EF98-5031-001 at 99 FERC ¶ 61,055. On July 31, 2003, the P-SMBP-ED Transmission Service Rate Schedules will expire. This makes it necessary to extend the current rates pursuant to 10 CFR part 903. With this approval, Rate Order No. WAPA-79 will be extended under Rate Order WAPA-100. A notice of an extension of the Transmission Service Rate Schedules was published in the Federal Register on March 4, 2003. Therefore, Western is extending P-SMBP-ED Transmission Service Rate Schedules under Rate Order No. WAPA-100.

Discussion

On July 31, 2003, the Western's P-SMBP-ED Transmission Service Rate Schedules expire. This makes it necessary to extend the current Rate Schedules , UGP-AS1, UGP-AS2, UGP-AS3, UGP-AS4, UGP-AS5, UGP-AS6, UGP-FTP1, UGP-NFPT1, and UGP-NT1, under 10 CFR part 903.23(a). Western's existing formulary Transmission Service Rate Schedules, which are recalculated annually, would sufficiently recover project expenses (including interest) and capital requirements through September 30, 2005.

Western proposes to extend the existing the P-SMBP-ED Transmission Service Rate Schedules through September 30, 2005. Western is currently evaluating several options for joining a FERC-approved Regional Transmission Organization. That decision could redefine our current rate provisions. Therefore, Western believes it is premature to proceed with a formal rate process at this time. Extending the existing Transmission Service Rate Schedules to September 30, 2005, should provide enough time to complete our evaluation process.

Consistent with 10 CFR part 903.23(a), Western did not have a consultation and comment period. The notice of proposed extension of the Transmission Service Rate Schedules was published in the Federal Register on March 4, 2003.

Order

In view of the above and under the authority delegated to me by the Secretary, I hereby extend for a period effective from August 1, 2003, and ending September 30, 2005, the existing Transmission Rate Schedules UGP-AS1, UGP-AS2, UGP-AS3, UGP-AS4, UGP-AS5, UGP-AS6, UGP-FTP1, UGP-NFPT1, and UGP-NT1 on an interim basis for transmission service for the P-SMBP-ED. The existing Transmission Rate Schedules UGP-AS1, UGP-AS2, UGP-AS3, UGP-AS4, UGP-AS5, UGP-AS6, UGP-FTP1, UGP-NFPT1, and UGP-NT1 for transmission service for the P-SMBP-ED, shall remain in effect pending FERC confirmation and approval of their extension or substitute rates on a final basis through September 30, 2005.

Dated: June 4, 2003.
Kyle E. McSlarrow,
Deputy Secretary.

[FR Doc. 03-14950 Filed 6-12-03; 8:45 am]

BILLING CODE 6450-01-M